DEPARTMENT OF COMMERCE

International Trade Administration

[A-821-809]

Certain Hot-Rolled Flat-Rolled Carbon-Quality Steel Products From the Russian Federation: Final Results and Rescission of Antidumping Duty Administrative Review; 2016-2017

AGENCY: Enforcement and Compliance, International Trade Administration, Department of Commerce.

SUMMARY: The Department of Commerce (Commerce) determines that Novolipetsk Steel (NLMK) did not make a bona fide sale during the period of review (POR) December 1, 2016 through November 30, 2017. Therefore, we are rescinding this administrative review.

DATES: Applicable August 8, 2019.

FOR FURTHER INFORMATION CONTACT: John McGowan or Joshua DeMoss, AD/CVD Operations, Office VI, Enforcement and Compliance, International Trade Administration, U.S. Department of Commerce, 1401 Constitution Avenue NW, Washington, DC 20230; telephone: (202) 482-3019 or (202) 482-3362, respectively.

SUPPLEMENTARY INFORMATION:

Background

On February 19, 2019, Commerce published the Preliminary Results of this review in the Federal Register ¹ and invited parties to comment on the Preliminary Results. On March 25, 2019, we received case briefs from NLMK and the Ministry of Economic Development of the Russian Federation. On April 1, 2019, we received a rebuttal brief from a petitioner (i.e., Nucor Corporation). Further, on June 27, 2019, we held a public hearing regarding issues raised in case and rebuttal briefs.

¹ See Certain Hot-Rolled Flat-Rolled Carbon-Quality Steel Products from the Russian Federation: Preliminary Results of Antidumping Duty Administrative Review, 84 FR 4776 (February 19, 2019) (Preliminary Results), and accompanying Preliminary Decision Memorandum; see also Certain Hot-Rolled Flat-Rolled Carbon-Quality Steel Products from the Russian Federation: Correction to the Preliminary Results of the 2016-2017 Administrative Review, 84 FR 16643 (April 22, 2019).

Scope of the Order

The product covered by this administrative review is certain hot-rolled flat-rolled carbon-quality steel products (hot-rolled steel) from Russia. For the full text of the scope of the order, see the Issues and Decision Memorandum.²

² See Memorandum, “Issues and Decision Memorandum for the Final Results of the Administrative Review and Final Rescission of the Antidumping Duty Order on Certain Hot-Rolled Flat-Rolled Carbon-Quality Steel Products from the Russian Federation; 2016-2017,” dated concurrently with, and hereby adopted by, this notice (Issues and Decision Memorandum).

Analysis of the Comments Received

All issues raised in the case and rebuttal briefs submitted in this review are addressed in the Issues and Decision Memorandum. A list of the issues raised is attached as an appendix to this notice. The Issues and Decision Memorandum is a public document and is on file electronically via Enforcement and Compliance's Antidumping and Countervailing Duty Centralized Electronic Service System (ACCESS). ACCESS is available to registered users at http://access.trade.gov and it is available to all parties in the Central Records Unit, Room B8024 of the main Commerce building. In addition, a complete version of the Issues and Decision Memorandum can be accessed directly at http://enforcement.trade.gov/frn/index.html. The signed Issues and Decision Memorandum and the electronic versions of the Issues and Decision Memorandum are identical in content.

Bona Fides Analysis

For the Preliminary Results, Commerce analyzed the bona fide nature of NLMK's single sale and preliminarily found it was not a bona fide sale.³ Based on Commerce's complete analysis of all the information and comments on the record of this review, Commerce continues to find that NLMK's sale is not a bona fide sale. Commerce reached this conclusion based on its consideration of the totality of circumstances, including: (a) The atypical nature of both the price and quantity of the sale; (b) reason to question the arm's-length nature of the transaction; and (c) the circumstances of the sale/customer correspondence. In addition to the above factors, which Commerce determined are a sufficient basis to find NLMK's sale to be non-bona fide, it determined that additional factors—i.e., the timing of the sale, late payment by the customer, the sales agent agreement, affiliation concerns, and the fact that NLMK only made one sale during the POR—constituted additional support for its non-bona fide finding.

³ See Memorandum, “2016-2017 Antidumping Duty Administrative Review of Certain Hot-Rolled Flat-Rolled Carbon-Quality Steel Products from the Russian Federation: Preliminary Bona Fides Sales Analysis for Novolipetsk Steel,” dated February 11, 2019.

Because we have determined that NLMK had no bona fide sales during the POR, we are rescinding this administrative review.

Assessment

Because Commerce is rescinding this administrative review, we have not calculated a company-specific dumping margin for NLMK. NLMK's entries will be liquidated at the all-others rate applicable to Russian exporters who do not have their own company-specific rate. The all-others rate is 184.56 percent.⁴

⁴ See Termination of the Suspension Agreement on Hot-Rolled Flat-Rolled Carbon-Quality Steel Products from the Russian Federation, Rescission of 2013-2014 Administrative Review, and Issuance of Antidumping Duty Order, 79 FR 77455 (December 24, 2014).

Cash Deposit Requirements

Because we did not calculate a dumping margin for NLMK, NLMK continues to be subject to the all-others rate at which its merchandise entered, 184.56 percent.⁵ These cash deposit requirements shall remain in effect until further notice.

⁵ Id., 79 FR at 77456.

Administrative Protective Order

This notice also serves as a reminder to parties subject to Administrative Protective Order (APO) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a sanctionable violation.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Tariff Act of 1930, as amended, and 19 CFR 351.213(h) and 351.221(b)(5).

Dated: August 2, 2019.
Jeffrey I. Kessler,
Assistant Secretary for Enforcement and Compliance.

Appendix

List of Topics Discussed in the Issues and Decision Memorandum

I. Summary

II. Background

III. Scope of the Order

IV. Discussion of the Issues

Comment 1: Whether “Bona Fides” Testing is Applicable Only to New Shipper Reviews, and Not Administrative Reviews

Comment 2: Whether Record Evidence Confirms that NLMK's Sale Was Not a Bona Fide Sale

Comment 3: Whether Rescinding this Administrative Review is Appropriate

V. Recommendation

[FR Doc. 2019-17006 Filed 8-7-19; 8:45 am]

BILLING CODE 3510-DS-P